OFFICE OF GOVERNMENT ETHICS

Agency Information Collection Activities; Proposed Collection; Comment Request for a Modified OGE Form 278 Executive Branch Personnel Public Financial Disclosure Report

AGENCY: Office of Government Ethics (OGE).

ACTION: Notice of request for agency and public comments.

SUMMARY: After publication of this first round notice and public comment period, OGE intends to submit a modified OGE Form 278 Executive Branch Personnel Public Financial Disclosure Report to the Office of Management and Budget (OMB) for review and approval of a three-year extension under the Paperwork Reduction Act of 1995 (44 U.S.C. chapter 35).

DATES: Written comments by the public and the agencies on this proposed extension are invited and must be received on or before November 8, 2013.

ADDRESSES: You may submit comments to OGE on this paperwork notice by any of the following methods:

Email: usoge@oge.gov (Include reference to “OGE Form 278 paperwork comment” in the subject line of the message).

FAX: 202-482-9237.

Mail, Hand Delivery/Courier: Office of Government Ethics, Suite 500, 1201 New York Avenue NW., Washington, DC 20005-3917, Attention: Paul D. Ledvina, Agency Clearance Officer.

FOR FURTHER INFORMATION CONTACT: Mr. Ledvina at the Office of Government Ethics; telephone: 202-482-9247; TTY: 800-877-8339; FAX: 202-482-9237; Email: paul.ledvina@oge.gov. An electronic copy of the OGE Form 278 is available in the Forms Library section of OGE's Web site at http://www.oge.gov. A paper copy may also be obtained, without charge, by contacting Mr. Ledvina.

SUPPLEMENTARY INFORMATION:

Title: Executive Branch Personnel Public Financial Disclosure Report.

Form Number: OGE Form 278.

OMB Control Number: 3209-0001.

Type of Information Collection: Extension with modifications of a currently approved collection.

Type of Review Request: Regular.

Respondents: Private citizen Presidential nominees to executive branch positions subject to Senate confirmation; other private citizens who are potential (incoming) Federal employees whose positions are designated for public disclosure filing; those who file termination reports from such positions after their Government service ends; and Presidential and Vice-Presidential candidates.

Estimated Annual Number of Respondents: 1,394.

Estimated Time per Response: 3 hours.

Estimated Total Annual Burden: 4,182 hours.

Abstract: The OGE Form 278 collects information from certain officers and high-level employees in the executive branch for conflicts of interest review and public disclosure. The form is also completed by individuals who are nominated by the President for high-level executive branch positions requiring Senate confirmation and new entrants to other public reporting positions in the executive branch. The financial information collected relates to: assets and income; transactions; gifts, reimbursements and travel expenses; liabilities; agreements or arrangements; outside positions; and compensation over $5,000 paid by a source—all subject to various reporting thresholds and exclusions. The information is collected in accordance with section 102 of the Ethics in Government Act, 5 U.S.C. app. section 102, as amended by the Stop Trading on Congressional Knowledge Act of 2012 (Pub. L. 112-105) (STOCK Act), and OGE's implementing financial disclosure regulations at 5 CFR part 2634. OGE is proposing to make minor modifications to the paper version of the OGE Form 278 to update the Privacy Act Statement and the legal authorities under which the information is collected. OGE proposes to include in this renewal submission the new OGE Form 278e, an electronic version to be implemented in January 2014, pursuant to the e-filing system mandated under section 11(b) of the STOCK Act. (See Amendments to the STOCK Act Pub. L. 113-7 (April 15, 2013)). The OGE Form 278e will collect the same information that both the current paper version of the OGE Form 278 collects, as well as the 14 e-filing systems that are currently in use in executive branch agencies. Although the OGE Form 278e will not collect any additional information, the application will produce a streamlined output report format that presents only the filer's inputs in given categories, and that does not report other categories not selected by the filer.

Request for Comments: Agency and public comment is invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: August 30, 2013.
Walter M. Shaub, Jr.,
Director, Office of Government Ethics.

[FR Doc. 2013-21798 Filed 9-6-13; 8:45 am]

BILLING CODE 6345-03-P